DEPARTMENT OF TRANSPORTATION

Federal Highway Administration

[Docket No. FHWA-2024-0060]

Agency Information Collection Activities: Request for Comments for a New Information Collection

AGENCY: Federal Highway Administration (FHWA), DOT.

ACTION: Notice and request for comments.

SUMMARY: The FHWA has forwarded the information collection request described in this notice to the Office of Management and Budget (OMB) to approve a new information collection. We are required to publish this notice in the Federal Register by the Paperwork Reduction Act of 1995.

DATES: Please submit comments by September 25, 2024.

ADDRESSES: You may submit comments identified by DOT Docket ID Number 0060 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Patricia Sergeson, (202) 493-3166, Office Corporate Research, Technology and Innovation Management, Federal Highway Administration, Department of Transportation, 6300 Georgetown Pike, McLean, VA 22101, Office hours are from 7 a.m. to 4 p.m., Monday through Friday, except Federal holidays.

SUPPLEMENTARY INFORMATION: We published a Federal Register Notice with a 60-day public comment period on this information collection on June 21, 2024, at [89 FR 52202]. The comments and FHWA's responses are below.

FHWA received a comment from WSDOT providing feedback on the timeline for nominations to be sent as well as the eligibility criteria. WSDOT requested that the award section criteria be changed requiring that a final report be posted by June 30th of the year submitted. We have changed these criteria to require a TPF study be in the objectives fulfilled status (as defined in the TPF Procedures Manual published on pooledfund.org) by July 30th of the year submitted.

WSDOT also noted a difference in language between the notice and FAQ. FHWA will ensure all materials are consistent in what areas will be recognized. The nomination period has been updated and will be open August through end of September each nomination year.

Title: Transportation Pool Fund (TPF) Excellence Award.

Background: FHWA is partnering with the American Association of State Highway and Transportation Officials (AASHTO) Research Advisory Committee (RAC) to further promote research, innovation, and excellence through a new TPF Program Excellence Award.

For more than 45 years, the FHWA's TPF Program has enabled public and private entities to collaboratively conduct cutting-edge transportation research. Through the TPF Program, participants can pool funds and expertise to develop innovative solutions at a lower cost while extending the reach and impact of their research.

The TPF Excellence Award will recognize outstanding TPF studies that have made significant advancements in national research efforts in the areas of safety, economic strength, equity, climate and sustainability, transformation, and organizational excellence. The future award will highlight the importance of meaningful collaboration and partnership in transportation research. Administered through a partnership between FHWA and the AASHTO RAC, the biennial TPF Excellence Award will recognize two TPF studies. Nominations would be received between August and end of September of the nomination year. Nomination forms would be sent to FHWA Division Offices and State DOTs to solicit nominees.

Award: Any participant in the TPF program can nominate a TPF study that is in the objectives fulfilled status (defined in the TPF Procedures Manual on pooledfund.org) by July 30th of the year submitted. The nominator is responsible for completing the nomination form that summarizes the outstanding accomplishments of the entry. FHWA will use the collected information to evaluate, showcase, and enhance the public's knowledge of research and innovation conducted through these TPF projects. Nominations will be reviewed by an independent panel of judges from various backgrounds. The awards will be given every 2 yr. The winners will be presented awards at the completion of the process.

Respondents: Any participant in the Transportation Pooled Fund (TPF) program can submit a nomination of a TPF study for the TPF Excellence Award, including staff from the 50 States, the District of Columbia, Puerto Rico, and other global partners.

Frequency: The information will be collected biennially.

Estimated Average Burden per Response: The nomination email takes 2 minutes per respondent and the nomination form takes 5 hours per respondent per application to complete.

Estimated Total Annual Burden Hours: It is expected that the 550 respondents will complete an application for an estimated total of 267 annual burden hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: August 21, 2024.
Jazmyne Lewis,
Information Collection Officer.

[FR Doc. 2024-19123 Filed 8-23-24; 8:45 am]

BILLING CODE 4910-22-P